DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement, RFA-CE-17-003, Research Grant for Preventing Violence and Violence Related Injury (R01).

Times and Dates: 08:00 a.m.-5:00 p.m., EDT, May 11, 2017 (Closed) 8:00 a.m.-5:00 p.m., EDT, May 12, 2017 (Closed).

Place: The Georgian Terrace, 659 Peachtree Street NE., Atlanta, Georgia 30308.

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “Research Grant for Preventing Violence and Violence Related Injury (R01)”, RFA-CE-17-003.

Contact Person for More Information: Kimberly Leeks, Ph.D., M.P.H., Scientific Review Officer, CDC, 4770 Buford Highway NE., Mailstop F78, Atlanta, Georgia 30341-3717, Telephone: (770) 488-5964.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-06984 Filed 4-6-17; 8:45 am]

BILLING CODE 4163-18-P